DEPARTMENT OF VETERANS AFFAIRS

Advisory Committee on Structural Safety of Department of Veterans Affairs Facilities, Notice of Charter Renewal

This gives notice under the Federal Advisory Committee Act (Public Law 92-463) of October 6, 1972, that the Advisory Committee on Structural Safety of Department of Veterans Affairs Facilities has been renewed for a 2-year period beginning May 23, 2000, through May 23, 2002.

Dated: May 25, 2000.
By direction of the Secretary.
Marvin R. Eason,
Committee Management Officer.

[FR Doc. 00-13920 Filed 6-2-00; 8:45 am]

BILLING CODE 8320-01-M